DEPARTMENT OF ENERGY

Federal Energy Regulatory Commission

Combined Notice of Filings #1

Take notice that the Commission received the following exempt wholesale generator filings:

Docket Numbers: EG17-19-000.

Applicants: Wolf Hollow II Power, LLC.

Description: Wolf Hollow II Power, LLC submits Notice of Self-Certification of Exempt Wholesale Generator Status.

Filed Date: 11/1/16.

Accession Number: 20161101-5172.

Comments Due: 5 p.m. ET 11/22/16.

Docket Numbers: EG17-20-000.

Applicants: Colorado Bend II Power, LLC.

Description: Colorado Bend II Power, LLC submits Notice of Self-Certification of Exempt Wholesale Generator Status.

Filed Date: 11/1/16.

Accession Number: 20161101-5173.

Comments Due: 5 p.m. ET 11/22/16.

Docket Numbers: EG17-21-000.

Applicants: Portal Ridge Solar C, LLC.

Description: Portal Ridge Solar C, LLC submits Notice of Self-Certification of Exempt Wholesale Generator Status.

Filed Date: 11/2/16.

Accession Number: 20161102-5059.

Comments Due: 5 p.m. ET 11/23/16.

Docket Numbers: EG17-22-000.

Applicants: Luminant Generation Company LLC.

Description: Luminant Generation Company LLC submits Notice of Self-Certification of Exempt Wholesale Generator Status.

Filed Date: 11/2/16.

Accession Number: 20161102-5064.

Comments Due: 5 p.m. ET 11/23/16.

Take notice that the Commission received the following electric rate filings:

Docket Numbers: ER10-2641-028; ER10-2663-028; ER10-2881-028; ER10-2882-029; ER10-2883-028; ER10-2884-028; ER10-2885-028.

Applicants: Oleander Power Project, Limited Partnership, Southern Company—Florida LLC, Alabama Power Company, Southern Power Company, Mississippi Power Company, Georgia Power Company, Gulf Power Company.

Description: Notice of Non-Material of Change in Status of Oleander Power Project, Limited Partnership, et al.

Filed Date: 10/31/16.

Accession Number: 20161031-5332.

Comments Due: 5 p.m. ET 11/21/16.

Docket Numbers: ER10-2794-021; ER14-2672-006; ER12-1825-019.

Applicants: EDF Trading North America, LLC, EDF Energy Services, LLC, EDF Industrial Power Services (CA), LLC.

Description: Notice of Non-Material Change in Status of EDF Trading North America, LLC, et al.

Filed Date: 10/31/16.

Accession Number: 20161031-5317.

Comments Due: 5 p.m. ET 11/21/16.

Docket Numbers: ER11-3417-012; ER10-2895-016; ER10-2917-016; ER10-2918-017; ER10-2920-016; ER10-2921-016; ER10-2922-016; ER10-2966-016; ER10-3167-008; ER10-3178-009; ER11-2292-016; ER11-2293-016; ER11-2294-015; ER11-2383-011; ER11-3941-014; ER11-3942-015; ER12-2447-014; ER13-1346-008; ER13-1613-009; ER13-203-008; ER13-2143-009; ER14-1964-007; ER16-287-002.

Applicants: Alta Wind VIII, LLC, Bear Swamp Power Company LLC, BIF II Safe Harbor Holdings, LLC, BIF III Holtwood LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC.

Description: Notice of Change in Status of the Brookfield Companies.

Filed Date: 10/31/16.

Accession Number: 20161031-5316.

Comments Due: 5 p.m. ET 11/21/16.

Docket Numbers: ER15-2075-001.

Applicants: Southwest Power Pool, Inc.

Description: Compliance filing: NorthWestern Corporation (South Dakota) Formula Rate Compliance Filing to be effective 10/1/2015.

Filed Date: 11/2/16.

Accession Number: 20161102-5121.

Comments Due: 5 p.m. ET 11/23/16.

Docket Numbers: ER15-2129-003.

Applicants: Slate Creek Wind Project, LLC.

Description: Notice of Non-Material Change in Status of Slate Creek Wind Project, LLC.

Filed Date: 10/31/16.

Accession Number: 20161031-5325.

Comments Due: 5 p.m. ET 11/21/16.

Docket Numbers: ER16-2684-001.

Applicants: Nippon Dynawave Packaging Co.

Description: Tariff Amendment: MBRA Application to be effective 9/30/2016.

Filed Date: 11/1/16.

Accession Number: 20161101-5207.

Comments Due: 5 p.m. ET 11/22/16.

Docket Numbers: ER17-252-001.

Applicants: 2016 ESA Project Company, LLC.

Description: Tariff Amendment: Amendment of MBR Authority Application and Inital Baseline Tariff Filing to be effective 11/1/2016.

Filed Date: 11/1/16.

Accession Number: 20161101-5187.

Comments Due: 5 p.m. ET 11/22/16.

Docket Numbers: ER17-275-000.

Applicants: AES Huntington Beach, L.L.C.

Description: § 205(d) Rate Filing: Request for Approval of Amended RMR Service Agreement to be effective 1/1/2017.

Filed Date: 11/1/16.

Accession Number: 20161101-5163.

Comments Due: 5 p.m. ET 11/22/16.

Docket Numbers: ER17-276-000.

Applicants: Mid-Atlantic Interstate Transmission, LL, PJM Interconnection, L.L.C.

Description: § 205(d) Rate Filing: MAIT submits revisions to Service Agreement No. 4575 with Allegheny Hydro to be effective 1/1/2017.

Filed Date: 11/1/16.

Accession Number: 20161101-5164.

Comments Due: 5 p.m. ET 11/22/16.

Docket Numbers: ER17-277-000.

Applicants: PJM Interconnection, L.L.C., Virginia Electric and Power Company.

Description: § 205(d) Rate Filing: Revised Service Agreement No. 3226—NITSA between PJM and VEPCO to be effective 1/1/2017.

Filed Date: 11/1/16.

Accession Number: 20161101-5178.

Comments Due: 5 p.m. ET 11/22/16.

Docket Numbers: ER17-278-000.

Applicants: Pennsylvania Electric Company.

Description: § 205(d) Rate Filing: Penelec Amendment to Restated Composite Power Pooling Agreement to be effective 1/1/2017.

Filed Date: 11/1/16.

Accession Number: 20161101-5184.

Comments Due: 5 p.m. ET 11/22/16.

Docket Numbers: ER17-279-000.

Applicants: San Diego Gas & Electric Company.

Description: § 205(d) Rate Filing: 2017 SDGE TRBAA TACBAA update to Transmission Owner Tariff Filing to be effective 1/1/2017.

Filed Date: 11/1/16.

Accession Number: 20161101-5188.

Comments Due: 5 p.m. ET 11/22/16.

Docket Numbers: ER17-280-000.

Applicants: Jersey Central Power & Light.

Description: § 205(d) Rate Filing: JCP&L Amendment to Restated Composite Power Pooling Agreement to be effective 1/1/2017.

Filed Date: 11/1/16.

Accession Number: 20161101-5189.

Comments Due: 5 p.m. ET 11/22/16.

Docket Numbers: ER17-281-000.

Applicants: Mid-Atlantic Interstate Transmission, LL.

Description: § 205(d) Rate Filing: MAIT Amendment to Restated Composite Power Pooling Agreement to be effective 1/1/2017.

Filed Date: 11/1/16.

Accession Number: 20161101-5192.

Comments Due: 5 p.m. ET 11/22/16.

Docket Numbers: ER17-282-000.

Applicants: PJM Interconnection, L.L.C.

Description: § 205(d) Rate Filing: Revisions to OATT reflect SMECO as a Transmission Owner to be effective 1/1/2017.

Filed Date: 11/1/16.

Accession Number: 20161101-5199.

Comments Due: 5 p.m. ET 11/22/16.

Docket Numbers: ER17-283-000.

Applicants: PJM Interconnection, L.L.C.

Description: § 205(d) Rate Filing: Revisions to the CTOA Attachment A to reflect SMECO as a Transmission Owner to be effective 1/1/2017.

Filed Date: 11/1/16.

Accession Number: 20161101-5200.

Comments Due: 5 p.m. ET 11/22/16.

Docket Numbers: ER17-284-000.

Applicants: Midcontinent Independent System Operator, Inc.

Description: § 205(d) Rate Filing: 2016-11-01_Competitive Retail Solution Filing to be effective 3/1/2017.

Filed Date: 11/1/16.

Accession Number: 20161101-5205.

Comments Due: 5 p.m. ET 12/1/16.

Docket Numbers: ER17-285-000.

Applicants: Metropolitan Edison Company.

Description: Baseline eTariff Filing: MetEd Modifications to Purchase and Sale Agreement with Niagara Mohawk to be effective 11/1/2016.

Filed Date: 11/1/16.

Accession Number: 20161101-5206.

Comments Due: 5 p.m. ET 11/22/16.

Docket Numbers: ER17-286-000.

Applicants: Metropolitan Edison Company.

Description: § 205(d) Rate Filing: MetEd Amendment to Restated Composite Power Pooling Agreement to be effective 1/1/2017.

Filed Date: 11/1/16.

Accession Number: 20161101-5208.

Comments Due: 5 p.m. ET 11/22/16.

Docket Numbers: ER17-287-000.

Applicants: Southern California Edison Company.

Description: § 205(d) Rate Filing: Filing and Cancellations of Various Eldorado Agreements to be effective 1/1/2017.

Filed Date: 11/1/16.

Accession Number: 20161101-5213.

Comments Due: 5 p.m. ET 11/22/16.

Docket Numbers: ER17-288-000.

Applicants: Northern Indiana Public Service Company.

Description: Notice of Cancellation of multiple market base rate service agreements of Northern Indiana Public Service Company.

Filed Date: 10/31/16.

Accession Number: 20161031-5311.

Comments Due: 5 p.m. ET 11/21/16.

Docket Numbers: ER17-289-000.

Applicants: East Texas Electric Cooperative, Inc.

Description: Application for cost-based revenue requirements schedule for reactive power production capability of East Texas Electric Cooperative, Inc.

Filed Date: 10/31/16.

Accession Number: 20161031-5324.

Comments Due: 5 p.m. ET 11/21/16.

Docket Numbers: ER17-290-000.

Applicants: ISO New England Inc.

Description: Informational Filing of Contract of ISO New England Inc.

Filed Date: 10/31/16.

Accession Number: 20161031-5333.

Comments Due: 5 p.m. ET 11/21/16.

Docket Numbers: ER17-291-000.

Applicants: Public Service Company of New Mexico.

Description: § 205(d) Rate Filing: Executed Transmission Service Agreements Between PNM and Aragonne Wind, LLC to be effective 1/1/2017.

Filed Date: 11/2/16.

Accession Number: 20161102-5061.

Comments Due: 5 p.m. ET 11/23/16.

Docket Numbers: ER17-292-000.

Applicants: Greenleaf Power Management LLC.

Description: Tariff Cancellation: Cancellation of MBR Tariff to be effective 11/2/2016.

Filed Date: 11/2/16.

Accession Number: 20161102-5066.

Comments Due: 5 p.m. ET 11/23/16.

Docket Numbers: ER17-293-000.

Applicants: PJM Interconnection, L.L.C.

Description: § 205(d) Rate Filing: Amendment to WMPA SA No. 3159—Queue W2-073 to be effective 2/21/2014.

Filed Date: 11/2/16.

Accession Number: 20161102-5097.

Comments Due: 5 p.m. ET 11/23/16.

Docket Numbers: ER17-294-000.

Applicants: Pennsylvania Electric Company, Jersey Central Power & Light, Metropolitan Edison Company, PJM Interconnection, L.L.C.

Description: § 205(d) Rate Filing: Penelec, JCPL and Met-Ed submit Revised WASP Agreements SA Nos. 4221, 4222, 4223 to be effective 10/25/2016.

Filed Date: 11/2/16.

Accession Number: 20161102-5099.

Comments Due: 5 p.m. ET 11/23/16.

Docket Numbers: ER17-295-000.

Applicants: New York State Electric & Gas Corporation, New York Independent System Operator, Inc.

Description: § 205(d) Rate Filing: 205 Filing of CRA No. 2319 between NYSEG and National Grid to be effective 10/7/2016.

Filed Date: 11/2/16.

Accession Number: 20161102-5117.

Comments Due: 5 p.m. ET 11/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2016.
Nathaniel J. Davis, Sr.,
Deputy Secretary.

[FR Doc. 2016-26987 Filed 11-8-16; 8:45 am]

BILLING CODE 6717-01-P